DEPARTMENT OF THE INTERIOR

Fish and Wildlife Service

Marine Mammal Protection Act; Stock Assessment Reports

AGENCY: Fish and Wildlife Service, Interior.

ACTION: Notice of availability of draft revised marine mammal stock assessment reports for Pacific walrus, polar bear, and sea otter in Alaska; request for comments.

SUMMARY: In accordance with the Marine Mammal Protection Act (MMPA), the Fish and Wildlife Service (FWS) has developed draft revised marine mammal stock assessment reports for Pacific walrus, polar bear, and sea otter in Alaska which are available for public review and comment.

DATES: Comments must be received by June 26, 2002.

ADDRESSES: Copies of the draft revised stock assessment reports are available from the Marine Mammals Management Office, 1011 East Tudor Road, Anchorage, AK 99503, (800) 362-5148. They can also be viewed in Adobe Acrobat format at http://www.r7.fws.gov/mmm/SAR.

Comments on the draft revised stock assessment reports should be sent to: Supervisor, Marine Mammals Management Office, 1011 East Tudor Road, Anchorage, AK 99503 by conventional mail, or mmm.sar@fws.gov by electronic mail.

SUPPLEMENTARY INFORMATION: Section 117 of the MMPA (16 U.S.C. 1361-1407) requires the FWS and the National Marine Fisheries Service (NMFS) to prepare stock assessment reports for each marine mammal stock that occurs in waters under the jurisdiction of the United States. Section 117 of the MMPA also requires the FWS and the NMFS to review and revise the stock assessment reports (a) at least annually for stocks which are specified as strategic stocks; (b) at least annually for stocks for which significant new information is available; and (c) at least once every three years for all other stocks. Stock assessment reports for Pacific walrus, polar bar, and sea otters in Alaska were last published in 1998.

Previous stock assessments covered a single stock of Pacific walrus, two stocks of polar bears (Bering/Chukchi seas and southern Beaufort sea), and a single stock of sea otters in Alaska. There are no changes in stock identification for Pacific walrus and polar bear, however three stocks of sea otters (southwest Alaska, southcentral Alaska, and southeast Alaska) have been identified.

A strategic stock is defined in the MMPA as a marine mammal stock (A) for which the level of direct human-caused mortality exceeds the potential biological removal level; (B) which, based on the best available scientific information, is declining and is likely to be listed as a threatened species under the Endangered Species Act of 1973 within the foreseeable future; or (C) which is listed as a threatened or endangered species under the Endangered Species Act of 1973, or is designated as depleted under the MMPA.

With the exception of the southwest Alaska stock of sea otters, all stocks remain classified as non-strategic in these draft reports. Based on the best available scientific information, sea otter numbers across southwest Alaska are declining. In April 2000, an aerial survey of sea otters in the Aleutian Islands indicated the population had declined by 70% during the period from 19922000. In August 2000 FWS designated the northern sea otter in the Aleutian Islands as a candidate species under the Endangered Species Act. Additional surveys in 2000 and 2001 along the Alaska Peninsula and Kodiak archipelago also showed population declines in these areas. As a result, the southwest Alaska stock is classified as strategic in the draft report and is under review for possible listing under the Endangered Species Act.

A summary of the draft revised stock assessment reports is presented in Table 1. The table lists each marine mammal stock, estimated abundance (NEST), minimum abundance estimate (NMIN), maximum theoretical growth rate (RMAX), recovery factor (FR), Potential Biological Removal (PBR), annual estimated average human-caused mortality, and the status of each stock. In accordance with the MMPA, a list of the sources of information or public reports upon which the assessment is based is included in this notice.

Table 1.—Summary of Draft Stock Assessment Report for Pacific Walrus Polar Bear, and Sea Otter in Alaska
Species | Stock | NEST | NMIN | RMAX | FR | PBR | Mortality causes (5 yr. average): Subsistence | Mortality causes (5 yr. average): Fishery | Mortality causes (5 yr. average): Other | Stock/Status
Pacific Walrus | Alaska |  |  | 0.08 |  |  | 5,789 | 2 | 4 | Non-strategic.
Polar Bear | Alaska Chukchi/Bering Seas |  |  | 0.06 | 0.5 |  | 45 (Alaska) - (Russia) | 0 | 0 (Alaska) - (Russia) | Non-strategic.
Polar Bear | Alaska Southern Beaufort Sea | 2,272 | 1,971 | 0.06 | 1.0 | 88 | 34 (Alaska) 20 (Canada) | 0 | <1 (Alaska) 0 (Canada) | Non-strategic.
Sea Otter | Southeast Alaska | 8,807 | 8,709 | 0.20 | 1.0 | 871 | 301 | 0 | 0 | Non-strategic.
Sea Otter | Southcentral Alaska | 21,749 | 19,508 | 0.20 | 1.0 | 1,951 | 297 | 0 | 0 | Non-strategic.
Sea Otter | Southwest Alaska | 23,967 | 21,518 | 0.20 | 0.5 | 1,076 | 97 | <1 | 0 | Strategic.
Dash (-) indicates unknown value.

List of References

Pacific Walrus

Chapskii, K.K. 1936. The walrus of the Kara Sea. Results of an investigation of the life history, geographical distribution, and stock of walruses in the Kara Sea. Transactions of the Arctic Institute 67:1-124.

Chivers, S.J. 1999. Biological indices for monitoring population status of walrus evaluated with an individual-based model. Pp. 239-247 In: Garner, G.W., S.C. Amstrup, J.L. Laake, B.F.J. Manly, L.L. McDonald, and D.G. Robertson (eds.), Marine Mammal Survey and Assessment Methods. A.A. Balkema, Rotterdam, 287 pp.

DeMaster, D.P. 1984. An analysis of a hypothetical population of walruses. Pp. 77-80 In: F.H. Fay and G.A. Fedoseev (eds.), Soviet-American Cooperative Research on Marine Mammals, vol. 1, Pinnipeds. NOAA Technical Report, NMFS 12, 104 pp.

Estes, J.A. and J.R. Gilbert. 1978. Evaluation of an aerial survey of Pacific walruses (Odobenus rosmarus divergens). Journal of the Fisheries Research Board of Canada 35:1130-1140.

Estes, J.A. and V.N. Gol'tsev. 1984. Abundance and distribution of the Pacific walrus (Odobenus rosmarus divergens): results of the first Soviet-American joint aerial survey, autumn 1975. Pp. 67-76 In: F.H. Fay and G.A. Fedoseev (eds.), Soviet-American Cooperative Research on Marine Mammals, vol. 1, Pinnipeds. NOAA Technical Report, NMFS 12, 104 pp.

Fay, F.H. 1982. Ecology and Biology of the Pacific Walrus (Odobenus rosmarus divergens). North American Fauna 74. U.S. Fish and Wildlife Service, Washington, DC, 279 pp.

Fay, F.H., B.P. Kelly, P.H. Gehnrich, J.L. Sease, and A.A. Hoover. 1984. Modern populations, migrations, demography, trophics, and historical status of the Pacific walrus. Final Report R.U. #611. NOAA Outer Continental Shelf Environmental Assessment Program, Anchorage, AK, 142 pp.

Fay, F.H., B.P. Kelly, and J.L. Sease. 1989. Managing the exploitation of Pacific walruses: a tragedy of delayed response and poor communication. Marine Mammal Science 5:1-16.

Fay, F.H., J.J. Burns, S.W. Stoker, and J.S. Grundy. 1994. The struck-and-lost factor in Alaskan walrus harvests. Arctic 47(4):368-373.

Fay, F.H., L.L. Eberhardt, B.P. Kelly, J.J. Burns, and L.T. Quakenbush. 1997. Status of the Pacific walrus Population, 1950-1989. Marine Mammal Science 13(4):537-565.

Fedoseev, G.A. 1984. Present status of the population of walruses (Odobenus rosmarus) in the eastern Arctic and Bering Sea. Pp. 73-85 In: V.E. Rodin, A.S. Perlov, A.A. Berzin, G.M. Gavrilov, A.I. Shevchenko, N.S. Fadeev, and E.B. Kucheriavenko (eds.), Marine Mammals of the Far East. TINRO, Vladivostok.

Fedoseev, G.A. and V.N. Gol'tsev. 1969. Age-sex structure and reproductive capacity of the Pacific walrus population. Zoological Journal 48:407-413.

Fedoseev, G.A. and E.V. Razlivalov. 1986. The distribution and abundance of walruses in the eastern Arctic and Bering Sea in autumn 1985. VNIRO, Magadan Branch. Mimeo report, 7 pp.

Garlich-Miller, J.G. and D.M. Burn. 1997. Estimating the harvest of Pacific walrus, Odobenus rosmarus divergens, in Alaska. Fish. Bull. 97 (4):1043-1046.

Garlich-Miller, J. and C.V. Jay. 2000. Proceedings of a workshop concerning walrus survey methods. USFWS R7/MMM Technical Report 00-2, 92 pp.

Gilbert, J.R. 1986. Aerial survey of Pacific walrus in the Chukchi Sea, 1985. Mimeo report, 43 pp.

Gilbert, J.R. 1989a. Aerial census of Pacific walruses in the Chukchi Sea, 1985. Marine Mammal Science 5(1):17-28.

Gilbert, J.R. 1989b. Errata: Correction to the variance of products, estimates of Pacific walrus populations. Marine Mammal Science 5(4):411-412.

Gilbert, J.R. 1999. Review of previous Pacific walrus surveys to develop improved survey designs. In: Garner, G.W., S.C. Amstrup, J.L. Laake, B.F.J. Manly, L.L. McDonald, and D.G. Robertson (eds.), Marine Mammal Survey and Assessment Methods. A.A. Balkema, Rotterdam, 287 pp.

Gilbert, J.R., G.A. Fedoseev, D. Seagars, E. Razlivalov, and A. LaChugin. 1992. Aerial census of Pacific walrus, 1990. USFWS R7/MMM Technical Report 92-1, 33 pp.

Hills, S. and J.R. Gilbert. 1994. Detecting Pacific walrus population trends with aerial survey—a review. Transactions North American Wildlife and Natural Resource Conference.

Johnson, A., J. Burns, W. Dusenberry, and R. Jones. 1982. Aerial survey of Pacific walrus, 1980. U.S. Fish and Wildlife Service, Anchorage, AK. Mimeo report, 32 pp.

Kelly, B.P., B. Taras, and L. Quakenbush. 2000. Monitoring age and sex composition of Pacific walruses: 12-30 July 1999 cruise report. Unpublished report to North Pacific Marine Research Program and Eskimo Walrus Commission. School of Fisheries and Ocean Sciences, University of Alaska Fairbanks, 16 pp.

Krylov, V.I. 1965. Determination of age, rate of growth, and analysis of the age structure of the catch of the Pacific walrus. Pp. 210-211 In: E.N. Pavlovski, B.A. Zenkovich, S.E. Kleinenber, and K.K. Chapskii (eds.), Morskie Mlekopitaiushchie. Nauka, Moscow.

Krylov, V.I. 1968. On the present status of stocks of the Pacific walrus and prospects of their rational exploitation. Pp. 189-204 In: V.A. Arsen'ev and K.I. Panin (eds.), Lastonogie Severnoi Chasti Tikhogo Okeana. Pischevaya Promyshlennost', Moscow.

Mansfield, A.W. 1959. The walrus in the Canadian Arctic. Fisheries Research Board Canada, Circular 2, 13 pp.

Scribner, K.T., S. Hills, S.R. Fain, and M.A. Cronin. 1997. Population genetics studies of the walrus (Odobenus rosmarus): a summary and interpretation of results and research needs. In: A.E. Dizon, S.J. Chivers and W.F. Perrin (eds.), Molecular Genetics of Marine Mammals. Marine Mammal Science 3:173-184.

Sease, J.L. 1986. Historical status and population dynamics of the Pacific walrus. Univ. Alaska, Fairbanks. Thesis, 213 pp.

Sease, J.L. and D.G. Chapman. 1988. Pacific walrus (Odobenus rosmarus divergens). Pgs. 17-38. In: J.W. Lentfer (eds.), Selected Marine Mammals of Alaska: species accounts with research and management recommendations. Marine Mammal Commission, Washington, D.C. NTIS PB88-178462.

Wade, P.R., and R. Angliss. 1997. Guidelines for assessing marine mammal stocks: report of the GAMMS workshop April 3-5, 1996, Seattle, Washington. U.S. Dep. Commer., NOAA Tech. Memo. NMFS-OPR-12, 93 pp.

Polar Bear

Administrative Law Judge. 1977. Environmental Impact Statement: Consideration of a waiver of the moratorium and return of management of certain marine mammals to the State of Alaska. 2 Volumes.

Amstrup, S.C., and D.P. DeMaster. 1998. Polar bear, Ursus maritimus. Pages 39-45 In: J.W. Lentfer, ed. Selected Marine Mammals of Alaska: Species Accounts with Research and Management Recommendations. Marine Mammal Commission, Washington, D.C.

Amstrup, S.C., I. Stirling, and J.W. Lentfer. 1986. Past and present status of polar bears in Alaska. Wildlife Society Bulletin. 14:241-254.

Amstrup, S.C. 1995. Movements, distribution, and population dynamics of polar bears in the Beaufort Sea. PhD Dissertation. University of Alaska-Fairbanks. Fairbanks, Alaska, 299 pp.

Amstrup, S.C., T.L. McDonald, and I. Stirling. 2001. Polar bears in the Beaufort Sea: A 30-year mark-recapture case history. Journal of Agricultural, Biological, and Environmental Statistics, Vol. (2): 221-234.

Amstrup, S.C., G.M. Durner, A.S. Fischbach, K. Simac, and G. Weston-York. (In preparation) Polar Bear Research in the Beaufort Sea. in N. Lunn, E.W. Born, and S. Schliebe (eds). Proceedings of the Thirteenth Working Meeting of the IUCN/SSC Polar Bear Specialist Group. 23-28 June, 2001. Int. Union Conserv. Nature and Nat. Resour., Nuuk, Greenland.

Belikov, S.E. 1993. Status of polar bear populations in the Russian Arctic 1993. pp. 115-121. In: O. Wiig, G.W. Garner (eds.) Proceedings of the Eleventh Working Meeting of the IUCN/SSC Polar Bear Specialist Group. IUCN, Gland, Switzerland and Cambridge, UK. v + 192 pp.

Belikov. 1997. Draft of Russian-American agreement on protection and management of the Chukchi-Alaskan polar bear population. (In preparation) In: A.E. Derocher, G. Garner, N. Lunn, and O. Wiig (eds). Proceedings of the Twelfth Working Meeting of the IUCN/SSC Polar Bear Specialist Group. 3-7 February, 1997. Int. Union Conserv. Nature and Nat. Resour., Oslo, Norway.

Brower, C.D., A. Carpenter, M. Branigan, W. Calvert, T. Evans, A.S. Fischbach, J. Nagy, S. Schliebe, and I. Stirling. (Submitted to Arctic). The polar bear management agreement for the Southern Beaufort Sea: An evaluation of the first ten years of a unique conservation agreement.

Cronin, M.A., S.C. Amstrup, G.W. Garner, and E.R. Vyse. 1991. Interspecific and intraspecific mitochondrial DNA variation In: North American bears (Ursus). Canadian Journal of Zoology. 69:12:2985-2992.

DeMaster, D.P., and I. Stirling. 1981. Ursus maritimus. Mammalian Species: 1-7.

Dizon, A.E., C. Lockyer, W.F. Perrin, D.P. DeMaster, and J. Sisson. 1992. Rethinking the stock concept:a phylogeographic approach. Conser. Biol. 6:24-36.

Evans, T.F., A.S. Fischbach, S. Schliebe, S. Kalxdorff, G. York, B. Manly. In prep. Polar bear aerial survey in the Eastern Chukchi Sea.

Garner, G.W., S.T. Knick, and D.C. Douglas. 1990. Seasonal movements of adult female polar bears in the Bering and Chukchi seas. International Conference on Bear Research and Management 8:219-226.

Garner, G.W., L.L. McDonald, D.S. Robson, D.P. Young Jr., and S.M. Arthur. 1992. Literature review: population estimation methodologies applicable to the estimation of abundance of polar bears. Internal Report, U.S.F.W.S. 102pp.

Garner, G.W., L.L. McDonald, S.M. Arthur, and T.L. Olson. 1994. Operating procedures: Pilot polar bear survey Beaufort Sea: 1994. Internal Report, U.S.F.W.S., 39pp.

Garner, G.W., S.E. Belikov, M.S. Stishov, V.G. Barnes, and S.A. Arthur. 1994. dispersal patterns of maternal polar bears from the denning concentration on Wrangel Island. International Conference on Bear Research and Management 9(1):401-410.

Hanna, G.D. 1920. Mammals of the St. Matthew Islands, Bering sea. Journal of Mammalogy 1:118-122.

Harington, C.R. 1968. Denning habits of the polar bear (Ursus maritimus) Phipps. Canadian Wildlife Service Report, Series 5. 33pp.

IUCN (1998). Status of polar bear. pp. 23-45. In: A.E. Derocher, G. Garner, N. Lunn, and O. Wiig (eds). Proceedings of the Twelfth Working Meeting of the IUCN/SSC Polar Bear Specialist Group. IUCN, Gland, Switzerland and Cambridge, UK. v + 159 pp.

Lentfer, J.W. 1974. Discreteness of Alaskan polar bear populations. Proceedings of the International Congress of Game Biologists 11:323-329.

Lentfer, J.W. 1976. Environmental contaminants and parasites in polar bears. Alaska Department of Fish and Game, Pittman-Robertson Project Report. W-17-4 and W-17-5. 22 pp.

Lentfer, J.W. 1983. Alaskan polar bear movements from mark and recovery. Arctic 36:282-288.

Lentfer, J.W., R.J. Hensel, J.R. Gilbert, and F.E. Sorensen. 1980. Population characteristics of Alaskan polar bears. International Conference on Bear Research and Management 3: 109-115.

Lentfer, J.W., and W.A. Galster. 1987. Mercury in polar bears from Alaska. Jour. Wildl. Diseases 23:338-341.

Manning, T.H. 1971. Geographical variation in the polar bear Ursus maritimus Phipps. Canadian Wildlife Service Report Series No. 13. 27 pp.

Paetkau, D., S.C. Amstrup, E.W. Born, W. Calvert, A.E. Derocher, G.W. Garner, F. Messier, I. Stirling, M.K. Taylor, Ø. Wiig., and C. Strobeck. 1999. Genetic Structrue of the world's polar bear populations. Molecular Ecology. 8:1571-1584.

Ray, C.E. 1971. Polar bear and mammoth on the Pribilof Islands. Arctic 24:9-19.

Schliebe, S.L., S.C. Amstrup, and G.W. Garner. 1995. The status of polar bear in Alaska, 1993. pp. 125-139. In: O. Wiig, G.W. Garner (eds.) Proceedings of the Eleventh Working Meeting of the IUCN/SSC Polar Bear Specialist Group. IUCN, Gland, Switzerland and Cambridge, UK. v + 192 pp.

Schliebe, S.L., J.W. Bridges, T.J. Evans, A.S. Fischbach, S.B. Kalxdorff, and L. Lierheimer. (In preparation). Summary of polar bear management in Alaska. In: N. Lunn, E.W. Born, and S. Schliebe (eds). Proceedings of the Thirteenth Working Meeting of the IUCN/SSC Polar Bear Specialist Group. 23-28 June, 2001. Int. Union Conserv. Nature and Nat. Resour., Nuuk, Greenland.

Scribner, K.T., G.W. Garner, S.C. Amstrup, and M.A. Cronin. 1997. Population genetic studies of the polar bear (Ursus maritimus): a summary of available data and interpretation of results. Pp. 185-196, In: Dizon, S.,J. Chivers Chivers, and W. Perrin (eds.), Molecular genetics of marine mammals, incorporating the proceedings of a workshop on the analysis of enetic data to address problems of stock identity as related to management of marine mammals. Spec. Pub. #3 of the Society of Marine Mammalogy.

Taylor, M.K., D.P. DeMaster, F.L. Bunnell, and R.E. Schweinsburg. 1987. Modeling the sustainable harvest of female polar bears. J. of Wildlife Management. 51:811-820.

Uspenski, S.M. 1986. Research and management of polar bear populations in the USSR 1981-85. Pages 133-136 In: Proceedings of the Ninth Working Meeting of the IUCN/SSC Polar Bear Specialist Group, IUCN, Gland, Switzerland and Cambridge, UK

Uspenski, S.M., and S.E. Belikov. 1991. Polar Bear Populations in the Arctic: Current State, Studies, and Management (1985-87) In: S.C. Amstrup and O. Wiig, eds. Proceedings of the Tenth Working Meeting of the IUCN/SSC Polar Bear Specialist Group, IUCN, Gland, Switzerland and Cambridge, UK.

Wade, P.R. and R. Angliss. 1997. Guidelines for assessing marine mammal stocks: Report in the GAMMS Workshop, April 3-5, 1996, Seattle, WA. 93pp.

Wilson, D.E. 1976. Cranial variation in polar bears. International Conference Bear Research and Management 3:447-453.

Sea Otter

Agler, B.A., S.J. Kendall, P.E. Seiser, and J.R. Lindell. 1995. Estimates of marine bird and sea otter abundance in Southeast Alaska during summer 1994. Migratory Bird Management, U.S. Fish and Wildlife Service, Anchorage, Alaska. 90pp.

Bacon, C.E., W.M. Jarman, J.A. Estes, M. Simon, and R.J. Norstrom. 1999. Comparison of organochlorine contaminants among sea otter (Enhydra lutris) populations in California and Alaska. Environmental Toxicology and Chemistry 18(3):452-458.

Bodkin, J.L., B.E. Ballachey, and M.A. Cronin. 1992. Mitochondrial DNA analysis in the conservation and management of sea otters. Research Information Bulletin, U.S. Department of the Interior 37:1-3.

Bodkin, J.L., R.J. Jameson, and J.A. Estes. 1995. Sea otters in the North Pacific Ocean. Pages 353-356 In: LaRoe III, E.T., G.S. Farris, C.E. Pucket, and P.D. Doran, eds. Our Living Resources 1994: a report to the nation on the distribution, abundance and health of U.S. plants, animals and ecosystems. U.S. Department of the Interior, National Biological Service, Washington, D.C.

Bodkin, J.L., B.E. Ballachey, M.A. Cronin, and K.T. Scribner. 1999. Population demographics and genetic diversity in remnant and translocated populations of sea otters (Enhydra lutris). Conservation Biology 13(6):1378-1385.

Bodkin, J.L., and M.S. Udevitz. 1999. An aerial survey method to estimate sea otter abundance. Pages 13-26 In: G.W. Garner et al., editors. Marine Mammal Survey and Assessment Methods. Balekema, Rotterdam, Netherlands.

Bodkin, J.L., B.E. Ballachey, T.A. Dean, A.K. Fukuyama, S.C. Jewett, L.M. McDonald, D.H. Monson, C.E. O'Clair, and G.R. Van Blaricom. In press. Sea otter population status and the process of recovery from the Exxon Valdez spill. Marine Ecology Progress Series.

Brueggeman, J.J., G.A. Green, R.A. Grotefendt, and D.G. Chapman. 1988. Aerial surveys of sea otters in the northwestern Gulf of Alaska and the southeastern Bering Sea. Minerals Management Service and NOAA Final Report. Anchorage, Alaska.

Calkins D.G., and K.B. Schneider. 1985. The sea otter (Enhydra lutris). Pages 37-45. In: Marine Mammals Species Accounts. J.J. Burns, K.J. Frost, and L.F. Lowry (eds). Alaska Department of Fish and Game, Technical Bulletin 7.

Comerci, L.R., C.S. Gorbis, A. Matz, and K.A. Trust (in prep.). Tissue concentrations of elemental and organochlorine compounds in sea otters in Alaska. U.S. Fish and Wildlife Service Technical Report, Anchorage, Alaska.

Costa, D.P., and G.L. Kooyman. 1981. Effects of oil contamination in the sea otter Enhydra lutris. Outer Continental Shelf Environmental Assessment Program. NOAA Final Report. La Jolla, California.,

Credle, V.A.D.P. DeMaster, M.M. Merlein, M.B. Hanson, W.A. Karp, and S.M. Fitzgerald (eds.) 1994. NMFS observer programs: minutes and recommendations from a workshop held in Galveston, Texas, November 10-11, 1993. U.S. Department of Commerce, NOAA Tech. Memo. NFMS-OPR-94-1. 96 pp.

Cronin, M.A., J.L. Bodkin, B.E. Ballachey, J.A. Estes, and J.C. Patton. 1996. Mitochondrial-DNA variation among subspecies and populations of sea otters. Journal of Mammology 77(2):546-557.

Cronin, M.A., W.J. Spearman, W. Buchholz, S. Miller, L. Jack and L. Commerci. (in prep.). Microsatellite DNA and mitochondrial DNA variation in Alaskan sea otters.

DeGrange, A.R., D.C. Douglas, D.H. Monson and C.M. Robbins. 1994a. Surveys of sea otters in the Gulf of Alaska in response to the Exxon Valdez oil spill. Final report to the Exxon Valdez Oil Spill Trustee Council, Marine Mammal Study 6-7. U.S. Fish and Wildlife Service, Anchorage, Alaska.

DeGange, A.R., A.M. Doroff, and D.H. Monson. 1994b. Experimental recovery of sea otter carcasses at Kodiak Island, Alaska, following the Exxon Valdez oil spill. Marine Mammal Science 10:429-496.

DeMaster, D.P. 1995. Minutes from the 4-5 and 11 January 1995 meeting of the Alaska Scientific Review Group, Anchorage, Alaska. 27 pp. + appendices (available upon request-D.P. DeMaster, National Marine Mammals Laboratory, 7600 Sand point Way, NE, Seattle, WA 98115).

Dizon, A.E., C. Lockyer, W.F. Perrin, D.P. DeMaster, and J. Sisson. 1992. Rethinking the stock concept: a phylogeographic approach. Conservation Biology 6(1):24-36.

Doroff, A.M., and C.S. Gorbics. 1998. Sea Otter Surveys of Yakutat Bay and Adjacent Gulf of Alaska Coastal Areas—Cape Hinchinbrook to Cape Spencer 1995-1996. Minerals Management Service, OCS Study MMS 97-0026. 31 pp.

Doroff, A.M., J.A. Estes, M.T. Tinker, D.M. Burn, and T.J. Evans (in prep.) Sea otter population declines in the Aleutian Archipelago.

Estes, J.A. 1990., Growth and equilibrium in sea otter populations. Journal of Animal Ecology 59:385-401.

Estes, J.A., C.E. Bacon, W.M. Jarman, R.J. Norstrom, R.G. Anthony, and A.K. Miles, 1997. Organochlorines in sea otters and bald eagles from the Aleutian Archipelgo. Marine Pollution Bulletin 34(6):486-490.

Estes, J.A., M.T. Tinker, T.M. Williams and D.F. Doak. 1998. Killer whale predation on sea otters linking ocean and nearshore systems. Science 282-473-476.

Evans, T.J., D.M. Burn and A.R. DeGange. 1997. Distribution and Relative Abundance of Sea Otters in the Aleutian Archipelago. USFWS Marine Mammals Management Technical Report, MMM 97-5. 29 pp.

Garrott, R.A., L.L. Eberhard, and D.M. Burn. 1993. Mortality of sea otters in Prince William Sound following the Exxon Valdez oil spill. Marine Mammal Science 9:343-359.

Garshelis, D.L., and J.A. Garshelis. 1984. Movements and management of sea otters in Alaska. Journal of Wildlife Management 48(3):665-678.

Garshelis, D.L., A.M. Johnson, and J.A. Garshelis. 1984. Social organization of sea otters in Prince William Sound, Alaska. Canadian Journal of Zoology 62:2648-2658.

Garshelis, D.L. 1997. Sea otter mortality estimated from carcasses collected after the Exxon Valdez oil spill. Conservation Biology 11(4):905-916.

Gorbics, C.S., and J.L. Bodkin. 2001. Stock structure of sea otters (Enhydra lutris kenyoni) in Alaska. Marine Mammal Science 17(3):632-647.

Irons, D.B., D.R. Nysewander, and J.L. Trapp. 1988. Prince William Sound sea otter distribution in respect to population growth and habitat type. U.S. Fish and Wildlife Service, Anchorage, Alaska.

Johnson, A.M. 1982. Status of Alaska sea otter populations and developing conflicts with fisheries. Pages 293-299. In: Transactions of the 47th North American Wildlife and Natural Resources Conference, Washington, D.C.

Kenyon, K.W. 1969. The sea otter in the eastern Pacific Ocean. North American Fauna 68. U.S. Department of the Interior, Washington, D.C.

Larson, S., R. Jameson, J.L. Bodkin, M. Staedler, and P. Bentzen (submitted to J. Mammalogy). Microsatellite and MtDNA sequence variation within and among remnant and translocated sea otter, Enhydra lutris, populations.

Perez, M.A. 1999. Compilation of Marine mammal incidental catch data for domestic and joint venture groundfish fisheries in the U.S. EEZ of the North Pacific, 1989-98. NOAA Technical Memorandum, Seattle, Washington. 134 pp.

Pitcher, K.W. 1989. Studies of southeastern Alaska sea otter populations: distribution, abundance, structure, range expansion and potential conflicts with shellfisheries. Anchorage, Alaska Department of Fish and Game, Cooperative Agreement 14-16-0009-954 with U.S. Fish and Wildlife Service. 24 pp.

Riedman, M.L., and J.A. Estes. 1990. The sea otter Enhydra lutris: behavior, ecology, and natural history. Biological Report; 90 (14). U.S. Fish and Wildlife Service.

Simenstad, C.A., J.A. Estes, and K.W. Kenyon. 1978. Aleuts, sea otters, and alternate stable-state communities. Science 200:403-411. 127 pp.

Siniff, D.B., T.D. Williams, A.M. Johnson, and D.L. Garshelis. 1982. Experiments on the response of sea otters Enhydra lutris to oil contamination. Biological Conservation 23: 261-272.

Stephensen, S.W., D.B. Irons, S.J. Kendall, B.K. Lance, and L.L. MacDonald. 2001. Marine bird and sea otter population abundance of Prince William Sound, Alaska: trends following the T/V Exxon Valdez oil spill, 1989-2000. Restoration Project 00159 Annual Report. USFWS Migratory Bird Management, Anchorage, Alaska. 114 pp.

Wade, P.R., and R. Angliss. 1997. Guidelines for assessing marine mammal stocks: report of the GAMMS workshop April 3-5, 1996, Seattle, Washington. U.S. Department of Commerce, NOAA Technical Memo. NMFS-OPR-12. 93 pp.

Wynne, K.M., D. Hicks, and N. Munro. 1991. 1990 salmon gillnet fisheries observer programs in Prince William Sound and South Unimak Alaska. Final Report, Saltwater, Inc., Anchorage, Alaska. 65 pp.

Wynne, K.M. 1990. Marine mammal interactions with salmon drift gillnet fishery on the Copper River Delta, Alaska: 1988 and 1989. Alaska Sea Grant Technical Report AK-SG-90-05. 36 pp.

Dated: January 29, 2002.
David B. Allen,
Regional Director.
[Marine Mammal Protection Act; Stock Assessment Reports]

[FR Doc. 02-7436 Filed 3-27-02; 8:45 am]

BILLING CODE 4310-55-M